DEPARTMENT OF HOMELAND SECURITY

Federal Emergency Management Agency

[Docket ID FEMA-2021-0002; Internal Agency Docket No. FEMA-B-2106]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Boulder. | City of Boulder (20-08-0969P). | The Honorable Sam Weaver, Mayor, City of Boulder, 1777 Broadway Street, Boulder, CO 80302. | Planning and Development Services Department, 1739 Broadway Street, Boulder, CO 80302. | https://msc.fema.gov/portal/advanceSearch. | Apr. 19, 2021 | 080024
Boulder. | Unincorporated areas of Boulder County 20-08-0969P). | The Honorable Deb Gardner, Chair, Boulder County Board of Commissioners, P.O. Box 471, Boulder, CO 80306. | Boulder County Community Planning and Permitting Department, 2045 13th Street, Boulder, CO 80302. | https://msc.fema.gov/portal/advanceSearch. | Apr. 19, 2021 | 080023
Connecticut: Fairfield. | Town of Stratford 20-01-0502P). | The Honorable Laura R. Hoydick, Mayor, Town of Stratford, 2725 Main Street, Stratford, CT 06615. | Building Department, 2725 Main Street, Stratford, CT 06615. | https://msc.fema.gov/portal/advanceSearch. | Apr. 26, 2021 | 090016
Delaware: New Castle. | Unincorporated areas of New Castle County 20-03-1274P). | The Honorable Matthew Meyer, New Castle County Executive, 87 Read's Way, New Castle, DE 19720. | New Castle County Land Use Department, 87 Read's Way, New Castle, DE 19720. | https://msc.fema.gov/portal/advanceSearch. | Apr. 15, 2021 | 105085
Florida:
Lee. | City of Bonita Springs 20-04-5188P). | The Honorable Rick Steinmeyer, Mayor, City of Bonita Springs, 9101 Bonita Beach Road, Bonita Springs, FL 34135. | Community Development Department, 9220 Bonita Beach Road, Bonita Springs, FL 34135. | https://msc.fema.gov/portal/advanceSearch. | Apr. 14, 2021 | 120680
Lee. | City of Sanibel (20-04-5855P). | The Honorable Mick Denham, Acting Mayor, City of Sanibel, 800 Dunlop Road, Sanibel, FL 33957. | Community Services Department, 800 Dunlop Road, Sanibel, FL 33957. | https://msc.fema.gov/portal/advanceSearch. | Apr. 19, 2021 | 120402
Lee. | Unincorporated areas of Lee County 20-04-5420P). | Mr. Roger Desjarlais, Lee County Manager, 2120 Main Street, Fort Myers, FL 33901. | Lee County Building Department, 1500 Monroe Street, Fort Myers, FL 33901. | https://msc.fema.gov/portal/advanceSearch. | Mar. 23, 2021 | 125124
Marion. | Unincorporated areas of Marion County 20-04-1412P). | The Honorable Mounir Bouyounes, Marion County Administrator, 601 Southeast 25th Avenue, Ocala, FL 34471. | Office of Marion County Administrator, 601 Southeast 25th Avenue, Ocala, FL 34471. | https://msc.fema.gov/portal/advanceSearch. | May 6, 2021 | 120160
Monroe. | City of Marathon 20-04-5597P). | The Honorable Steve Cook, Mayor, City of Marathon, 9805 Overseas Highway, Marathon, FL 33050. | Planning Department, 9805 Overseas Highway, Marathon, FL 33050. | https://msc.fema.gov/portal/advanceSearch. | Apr. 5, 2021 | 120681
Monroe. | Unincorporated areas of Monroe County 20-04-4391P). | The Honorable Michelle Coldiron, Mayor, Monroe County Board of Commissioners, 25 Ships Way, Big Pine Key, FL 33042. | Monroe County Building Department, 2798 Overseas Highway, Suite 300, Marathon, FL 33050. | https://msc.fema.gov/portal/advanceSearch. | Apr. 26, 2021 | 125129
Palm Beach. | City of Westlake 20-04-3348P). | The Honorable Roger Manning, Mayor, City of Westlake, 4001 Seminole Pratt Whitney Road, Westlake, FL 33470. | City Hall, 4001 Seminole Pratt Whitney Road, Westlake, FL 33470. | https://msc.fema.gov/portal/advanceSearch. | Apr. 19, 2021 | 120018
Polk. | Unincorporated areas of Polk County 20-04-0306P). | The Honorable Bill Braswell, Chairman, Polk County Board of Commissioners, P.O. Box 9005, Bartow, FL 33831. | Polk County Land Development Division, 330 West Church Street, Bartow, FL 33830. | https://msc.fema.gov/portal/advanceSearch. | Apr. 15, 2021 | 120261
Coweta. | Unincorporated areas of Coweta County 21-04-0345P). | The Honorable Paul Poole, Chairman, Coweta County Board of Commissioners, 22 East Broad Street, Newnan, GA 30263. | Coweta County Community Development Department, 22 East Broad Street, Newnan, GA 30263. | https://msc.fema.gov/portal/advanceSearch. | May 6, 2021 | 130298
Maine: York. | Town of Kennebunkport 20-01-0791P). | The Honorable Allen A. Daggett, Chairman, Town of Kennebunkport Board of Selectmen, 6 Elm Street, Kennebunkport, ME 04046. | Planning and Development Department, 6 Elm Street, Kennebunkport, ME 04046. | https://msc.fema.gov/portal/advanceSearch. | Apr. 19, 2021 | 230170
Maryland: Calvert. | Unincorporated areas of Calvert County 21-03-0019P). | Mr. Mark Willis, Calvert County Administrator, 175 Main Street, Prince Frederick, MD 20678. | Calvert County Services Department, 150 Main Street, Suite 300, Prince Frederick, MD 20678. | https://msc.fema.gov/portal/advanceSearch. | Apr. 19, 2021 | 240011
Mississippi:
Copiah. | City of Hazlehurst 20-04-2010P). | The Honorable Shirley Sandifer, Mayor, City of Hazlehurst, P.O. Box 549, Hazlehurst, MS 39083. | City Hall, 209 South Extension Street, Hazlehurst, MS 39083. | https://msc.fema.gov/portal/advanceSearch. | May 6, 2021 | 280046
Copiah. | Unincorporated areas of Copiah County 20-04-2010P). | The Honorable Ronnie Barlow, Copiah County Administrator, P.O. Box 551,, Hazlehurst, MS 39083. | Copiah County Courthouse, 122 South Lowe Street, Hazlehurst, MS 39083. | https://msc.fema.gov/portal/advanceSearch. | May 6, 2021 | 280221
New Mexico:
Dona Ana. | City of Las Cruces 20-06-1381P). | The Honorable Ken Miyagishima, Mayor, City of Las Cruces, 700 North Main Street, Las Cruces, NM 88001. | City Hall, 700 North Main Street, Las Cruces, NM 88001. | https://msc.fema.gov/portal/advanceSearch. | Apr. 28, 2021 | 355332
Taos. | Unincorporated areas of Taos County 20-06-2426P). | Mr. Brent Jaramillo, Taos County Manager, 105 Albright Street, Suite G, Taos, NM 87571. | Taos County Planning Department, 105 Albright Street, Taos, NM 87571. | https://msc.fema.gov/portal/advanceSearch. | Apr. 16, 2021 | 350078
North Carolina:
Chatham. | Town of Siler City 20-04-3577P). | Mr. Roy Lynch, Manager, Town of Siler City, P.O. Box 769, Siler City, NC 27344. | Public Works and Utilities Department, 311 North 2nd Avenue, Siler City, NC 27344. | https://msc.fema.gov/portal/advanceSearch. | Apr. 16, 2021 | 370058
Forsyth. | City of Winston-Salem 20-04-2834P). | The Honorable Allen Joines, Mayor, City of Winston-Salem, P.O. Box 2511, Winston-Salem, NC 27101. | Inspection Department, 100 East 1st Street, Suite 328, Winston-Salem, NC 27101. | https://msc.fema.gov/portal/advanceSearch. | Mar. 4, 2021 | 375360
Forsyth. | Unincorporated areas of Forsyth County 20-04-2834P). | The Honorable David R. Plyler, Chairman, Forsyth County Board of Commissioners, 201 North Chestnut Street, Winston-Salem, NC 27101. | Forsyth County Planning Board Office, 309 East Market Street Winston-Salem, NC 27577. | https://msc.fema.gov/portal/advanceSearch. | Mar. 4, 2021 | 375349
Chester. | Township of East Marlborough 20-03-1170P). | The Honorable Robert McKinstry, Chairman, Township of East Marlborough Board of Supervisors, 721 Unionville Road, Kennett Square, PA 19348. | Township Hall, 721 Unionville Road, Kennett Square, PA 19348. | https://msc.fema.gov/portal/advanceSearch. | Apr. 19, 2021 | 421480
Pennsylvania: Lackawanna. | Township of Clifton 20-03-1819P). | The Honorable Theodore Stout, Chairman, Township of Clifton Board of Supervisors, 361 State Road 435, Clifton Township, PA 18424. | Township Hall, 361 State Road 435, Clifton Township, PA 18424. | https://msc.fema.gov/portal/advanceSearch. | Apr. 6, 2021 | 421751
Texas:
Anderson. | Unincorporated areas of Anderson County 20-06-1140P). | The Honorable Robert D. Johnston, Anderson County Judge, 703 North Mallard Street, Suite 101, Palestine, TX 75801. | Anderson County Geographic Information Systems (GIS) Department, 703 North Mallard Street, Suite 109, Palestine, TX 75801. | https://msc.fema.gov/portal/advanceSearch. | Apr. 19, 2021 | 480001
Dallas. | City of Dallas 20-06-2850P). | The Honorable Eric Johnson, Mayor, City of Dallas, 1500 Marilla Street, Suite 5EN, Dallas, TX 75201. | Floodplain and Drainage Management Department, 320 East Jefferson Boulevard, Room 307, Dallas, TX 75203. | https://msc.fema.gov/portal/advanceSearch. | Apr. 19, 2021 | 480171
Denton. | City of Justin 20-06-3405P). | The Honorable Alan Woodall, Mayor, City of Justin, P.O. Box 129, Justin, TX 76247. | Department of Development Services, 415 North College Street, Justin, TX 76247. | https://msc.fema.gov/portal/advanceSearch. | Apr. 23, 2021 | 480778
Denton. | City of New Fairview 20-06-2141P). | Mr. Ben Nibarger, City of New Fairview Administrator, 999 Illinois Lane, New Fairview, TX 76078. | Geographic Information Systems (GIS) Department, 999 Illinois Lane, New Fairview, TX 76078. | https://msc.fema.gov/portal/advanceSearch. | Apr. 15, 2021 | 481629
Denton. | Unincorporated areas of Denton County 20-06-2141P). | The Honorable Andy Eads, Denton County Judge, 110 West Hickory Street, 2nd Floor, Denton, TX 76201. | Denton County Development Services Department, 3900 Morse Street, Denton, TX 76208. | https://msc.fema.gov/portal/advanceSearch. | Apr. 15, 2021 | 480774
Harris. | City of Houston 21-06-0023P). | The Honorable Sylvester Turner, Mayor, City of Houston, P.O. Box 1562, Houston, TX 77251. | Public Works and Engineering, Floodplain Management Department, 1002 Washington Avenue, 3rd Floor, Houston, TX 77251. | https://msc.fema.gov/portal/advanceSearch. | Apr. 26, 2021 | 480296
Harris. | Unincorporated areas of Harris County 20-06-2992P). | The Honorable Lina Hidalgo, Harris County Judge, 1001 Preston Street, Suite 911, Houston, TX 77002. | Harris County Permit Department, 10555 Northwest Freeway, Suite 120, Houston, TX 77092. | https://msc.fema.gov/portal/advanceSearch. | Apr. 26, 2021 | 480287
Tarrant. | City of Arlington 20-06-2037P). | The Honorable Jeff Williams, Mayor, City of Arlington, 101 West Abram Street, Arlington, TX 76010. | City Hall, 101 West Abram Street, Arlington, TX 76010. | https://msc.fema.gov/portal/advanceSearch. | Apr. 19, 2021 | 485454
Virginia:
Independent City. | City of Staunton 20-03-1605P). | Mr. Steven Rosenberg, City of Staunton Manager, 116 West Beverley Street, Staunton, VA 24401. | Community Development Department, 116 West Beverley Street, Staunton, VA 24401. | https://msc.fema.gov/portal/advanceSearch. | Mar. 30, 2021 | 510155
Loudoun. | Unincorporated areas of Loudoun County 20-03-1566P). | Mr. Tim Hemstreet, Loudoun County Administrator, P.O. Box 7000, Leesburg, VA 20177. | Loudoun County Mapping and Geographic Information (GIS) Department, 1 Harrison Street Southeast, Leesburg, VA 20175. | https://msc.fema.gov/portal/advanceSearch. | May 10, 2021 | 510090

[FR Doc. 2021-02428 Filed 2-4-21; 8:45 am]

BILLING CODE 9110-12-P